DEPARTMENT OF TRANSPORTATION

National Highway Traffic Safety Administration

49 CFR Parts 567, 571, 574 and 575

[Docket No. NHTSA-00-8011]

RIN 2127-AI54

Federal Motor Vehicle Safety Standards; Tires

AGENCY: National Highway Traffic Safety Administration (NHTSA), Department of Transportation.

ACTION: Correction to notice of proposed rulemaking (NPRM).

SUMMARY: This document contains corrections to the proposal which was published on Tuesday, March 5, 2002 (67 FR 10050).

DATES: Written comments may be submitted to this agency and must be received by May 6, 2002.

FOR FURTHER INFORMATION CONTACT: For technical and policy issues: Mr. George Soodoo or Mr. Joseph Scott, Office of Crash Avoidance Standards, National Highway Traffic Safety Administration, 400 Seventh Street, SW, Washington, DC, 20590. Telephone: (202) 366-2720. Fax: (202) 366-4329.

For legal issues: Nancy Bell, Attorney Advisor, Office of the Chief Counsel, NCC-20, National Highway Traffic Safety Administration, 400 Seventh Street, SW, Washington, DC, 20590. Telephone: (202) 366-2992. Fax: (202) 366-3820.

Background

The proposal that is the subject of this correction was published in response to the Transportation Recall Enhancement, Accountability, and Documentation (TREAD) Act of 2000. It proposed to establish new and more stringent tire performance requirements in a new Federal motor vehicle safety standard that would apply to all new tires for use on vehicles with a gross vehicle weight rating of 10,000 pounds or less. The proposal sought comment on the proposed new standard, including its applicability and test procedures, modifications to related existing standards, and lead time provided for manufacturers to achieve compliance.

Need for Correction

As published, the proposal inadvertently omits items which are in need of addition.

Correction of Publication

Accordingly, the publication on March 5, 2002 (67 FR 10050) is corrected as follows:

On page 10071, in the first column, following the second full paragraph, the following paragraph is added: “Additionally, all light vehicles manufactured on or after September 1, 2004 would have to comply with the final rule. This proposed lead time would be consistent with the lead time proposed for the two-year phase-in discussed above.”

On page 10077, amendment 3a is added to read as follows: “Table 1 to § 571.110 is revised to read as follows:

* * * * *

Table 1.—Occupant Loading and Distribution for Vehicle Normal Load for Various Designated Seating Capacities
Designated seating capacity, number of occupants | Vehicle normal load, number of occupants | Occupant distribution in a normally loaded vehicle
2 through 4 | 2 | 2 in front
5 through 10 | 3 | 2 in front, 1 in second seat
11 through 15 | 5 | 2 in front, 1 in second seat, 1 in third seat, 1 in fourth seat
16 through 22 | 7 | 2 in front, 2 in second seat, 2 in third seat, 1 in fourth seat

Issued: March 28, 2002.
Stephen R. Kratzke,
Associate Administrator for Safety Performance Standards.

[FR Doc. 02-8078 Filed 4-2-02; 8:45 am]

BILLING CODE 4910-59-P